ENVIRONMENTAL PROTECTION AGENCY

[EPA-HQ-OAR-2015-0202; FRL-9991-03-OAR]

Proposed Information Collection Request; Comment Request; Recordkeeping and Reporting Related to E15 (Renewal)

AGENCY: Environmental Protection Agency (EPA).

ACTION: Notice.

SUMMARY: The Environmental Protection Agency (EPA) is planning to submit an information collection request (ICR), “Recordkeeping and Reporting Related to E15 (Renewal)” (EPA ICR No 2408.05, OMB Control No. 2060-0675) to the Office of Management and Budget (OMB) for review and approval in accordance with the Paperwork Reduction Act. Before doing so, EPA is soliciting public comments on specific aspects of the proposed information collection as described below. This is a proposed extension of the ICR, which is currently approved through October 31, 2019. An Agency may not conduct or sponsor and a person is not required to respond to a collection of information unless it displays a currently valid OMB control number.

DATES: Comments must be submitted on or before May 17, 2019.

ADDRESSES: Submit your comments, referencing Docket ID No. EPA-HQ-OAR-2015-0202, online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: James W. Caldwell, Compliance Division, Office of Transportation and Air Quality, 6405A, Environmental Protection Agency, 1200 Pennsylvania Ave. NW, Washington, DC 20460; telephone number: (202) 343-9303; fax number: (202) 343-2802; email address: caldwell.jim@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Under the Clean Air Act, EPA granted partial waivers that allow gasoline containing greater than 10 volume percent ethanol and up to 15 volume percent ethanol (E15) to be introduced into commerce for use in model year 2001 and newer light-duty motor vehicles, subject to certain conditions. EPA issued a final rule establishing several measures to deter the use of E15 in ineligible vehicles and equipment (misfueling). The rule (1) prohibits the use of gasoline containing more than 10 volume percent ethanol in vehicles and equipment that are not covered by the partial waiver decisions, (2) requires all E15 dispensers to have a specific label indicating eligible vehicles, (3) requires E15 and related product transfer documents to contain certain information, and (4) requires ethanol producers, gasoline refiners, blenders, and related parties to conduct a survey of retail stations to monitor compliance with these requirements and submit periodic reports. In addition, to comply with conditions in the partial waivers, each survey party must implement a misfueling mitigation plan. This ICR covers the associated recordkeeping and reporting requirements.

Form Numbers: None.

Respondents/affected entities: Ethanol producers and importers, gasoline refiners, importers, terminals, distributors, retailers, and wholesale purchaser-consumers.

Respondent's obligation to respond: Mandatory (40 CFR part 80).

Estimated number of respondents: 2,604 (total).

Frequency of response: On occasion, quarterly, annually.

Total estimated burden: 14,770 hours (per year). Burden is defined at 5 CFR 1320.03(b).

Total estimated cost: $1,841,445 (per year), includes $128,125 in annualized capital or operation & maintenance costs.

Changes in estimates: There is an increase of 1,500 hours in the total estimated respondent burden compared with the ICR currently approved by OMB. This increase is due to an adjustment to an hourly estimate and the addition of some burdens not addressed in the current ICR.

Dated: March 12, 2019.
Byron J. Bunker,
Director, Compliance Division, Office of Transportation and Air Quality, Office of Air and Radiation.

[FR Doc. 2019-05031 Filed 3-15-19; 8:45 am]

BILLING CODE 6560-50-P